DEPARTMENT OF STATE

[Public Notice: 6304]

Notice of Disposition of Electronic Scanning and Storage of Certain Nonimmigrant Records

SUMMARY: The Department has determined that electronic scanned records of Category I nonimmigrant visa refusals and nonimmigrant visa applications (Form DS-156 [OMB-1405-018]) are to be treated as the official or original records of the Department of State. In accordance with The Government Paperwork Elimination Act (GPEA), the Department's scanned records are not to be denied legal effect, validity, or enforceability merely because they are in electronic form.

In October 21, 1998, Congress enacted the Government Paperwork Elimination Act (GPEA) which required, when practicable, Federal agencies to use electronic processes to conduct agency business. The purpose of the GPEA was to preclude agencies or courts from systematically treating electronic documents and signatures less favorably than their paper counterparts. In accordance with the GPEA, the Department of State launched the electronic scanning initiative in October 2001, which began the scanning of Category I nonimmigrant visa refusal paper records at selected posts. By May 2004, the Department of State expanded this scanning initiative to all posts. As of March 31, 2008, the Department has maintained the scanning of all Category I nonimmigrant visa refusal paper records and has also expanded its scanning initiative to include the scanning of nonimmigrant visa applications (Form DS-156 [OMB-1405-0018]) at selected high-volume posts.

By expanding the scanning initiative, the Department of State seeks to:

• Reduce costs associated with physical storage and improve access to these records with an electronic information management (EIM) interface.

• Manage millions of records and retrieve the ones that are needed expeditiously.

• Share documents with other offices or access them remotely while protecting confidential information.

• Create reports relating to case management, workload, and level-of-effort quantifications.

Will these records be considered “official” for all purposes?

Yes. Since the scanned, electronically stored records replicates the original paper documents, the scanned versions are to be considered the official or original records for all legal and other purposes.

What are “Category I” records?

Generally, but not always, Category I refusals are permanent in nature, as opposed to Category II refusals that are based on circumstances that may change and allow an applicant to overcome his or her visa ineligibility.

For example, a case involving a person convicted of a crime involving moral turpitude would be entered as a Category I refusal because the basis for the finding of ineligibility is predicated on a permanent condition, i.e., the conviction. However, the case of a person who is determined by a consular officer to be ineligible for a visa as a result of having incurred one year or more of unlawful presence in the United States would be entered as a Category II refusal because an ineligibility on that ground remains in effect for ten years following the person's departure or removal from the United States, and thereafter would not provide a basis for a refusal.

Under what authority is the Department of State converting these records?

Section 1732 of Title 28 of the United States Code (Record made in regular course of business; photographic copies) establishes the admissibility of electronic (copied) documents.

Is the electronic conversion of these documents temporary or permanent?

The Department has determined that the electronic conversion of Category I records is to be permanent.

Will these records be readily available for review?

No. In compliance with existing statutory requirements, these records are generally available only for internal use with respect to the issuance or denial of visas or permits to enter the United States or shared with Executive Branch authorities charged with administrating or enforcing the laws of the United States exclusively for such purposes. Section 222(f) of the Immigration and Nationality Act stipulates that, except as it relates to the discretionary authority of the Secretary of State to provide information to a court or a foreign government, the records of the Department of State and of diplomatic and consular offices of the United States pertaining to the issuance or refusal of visas or permits to enter the United States shall be considered confidential and shall be used only for the formulation, amendment, administration, or enforcement of the immigration, nationality, and other laws of the United States.

FOR FURTHER INFORMATION CONTACT: Partap Singh Verma, of the Office of Visa Services, U.S. Department of State, 2401 E. St., NW., L-603, Washington, DC 20522, who may be reached at (202) 663-1203.

Dated: July 21, 2008.
Janice Jacobs,
Assistant Secretary, Consular Affairs, Department of State.

[FR Doc. E8-17447 Filed 7-29-08; 8:45 am]

BILLING CODE 4710-06-P